DEPARTMENT OF COMMERCE

National Oceanic and Atmospheric Administration

50 CFR Part 648

[Docket No. 250416-0069]

RIN 0648-BN45

Fisheries of the Northeastern United States; Framework Adjustment 39 to the Atlantic Sea Scallop Fishery Management Plan

AGENCY: National Marine Fisheries Service (NMFS), National Oceanic and Atmospheric Administration (NOAA), Commerce.

ACTION: Final rule.

SUMMARY: NMFS approves and implements Framework Adjustment 39 to the Atlantic Sea Scallop Fishery Management Plan that establishes specifications and other management measures for fishing years 2025 and 2026, including fishing effort allocation into access areas, modifying when areas open to optimize yield and minimize bycatch, and closures to protect juvenile scallops. Vessels with a limited access general category B permit may transit outside of the Northern Gulf of Maine with scallops onboard. Research set-aside program regulations are clarified. This action is necessary to prevent overfishing and improve resource yield-per-recruit and management of the fishery.

DATES: Effective on April 21, 2025.

ADDRESSES: The New England Fishery Management Council (Council) has prepared an environmental assessment (EA) for this action that describes the approved measures in Framework 39 and other considered alternatives and analyzes the impacts of the approved measures and alternatives. Copies of Framework 39, the EA, the initial regulatory flexibility analysis (IRFA), and information on the economic impacts of this rulemaking are available upon request from Dr. Cate O'Keefe, Executive Director, New England Fishery Management Council, 50 Water Street, Newburyport, MA 01950 and accessible via the internet in documents available at: https://www.nefmc.org/library/scallop-framework-39.

FOR FURTHER INFORMATION CONTACT: Emily Keiley, Fishery Policy Analyst, 978-281-9116, email: emily.keiley@noaa.gov.

SUPPLEMENTARY INFORMATION:

Background

The Council adopted Framework Adjustment 39 to the Atlantic Sea Scallop Fishery Management Plan (FMP) at its December 2024 meeting. NMFS published a proposed rule for Framework 39 on March 18, 2025 (90 FR 12510). The proposed rule included a 15-day public comment period that closed on April 2, 2025. Except as explained below with respect to section 305(d) of the Magnuson-Stevens Fishery Conservation and Management Act (Magnuson-Stevens Act), NMFS is issuing this rule pursuant to the rulemaking authority at section 304(b)(1)(A) of the Act.

NMFS has approved all of the measures in Framework 39 recommended by the Council. This final rule implements Framework 39, which sets scallop specifications and other measures for fishing years 2025 and 2026, including changes to the catch, effort, and quota allocations and adjustments to the rotational area management program for fishing year 2025, and default specifications for fishing year 2026. The Magnuson-Stevens Act authorizes NMFS to approve, partially approve, or disapprove measures proposed by the Council based on whether the measures are consistent with the Atlantic Sea Scallop FMP, the Magnuson-Stevens Act and its National Standards, and other applicable law. Details concerning the development of these measures were contained in the preamble of the proposed rule and are not repeated here. This final rule also addresses regulatory text that is unclear pursuant to section 305(d) of the Magnuson-Stevens Act.

Specification of Scallop Overfishing Limit (OFL), Acceptable Biological Catch (ABC), Annual Catch Limits (ACL), Annual Catch Targets (ACT), Annual Projected Landings (APL) and Set-Asides for the 2025 Fishing Year, and Default Specifications for Fishing Year 2026

The OFL is based on a fishing mortality rate (F) of 0.61, equivalent to the F threshold updated through the Northeast Fisheries Science Center's most recent scallop benchmark stock assessment that was completed in September 2020 (NEFSC, 2020). The ABC and the equivalent total ACL for each fishing year are based on an F of 0.45, which is the F associated with a 75-percent probability of not exceeding the OFL. The Council's Scientific and Statistical Committee (SSC) recommended scallop fishery ABCs of 39.5 million pounds (lb; 17,901 metric tons (mt)) for 2025 and 39.1 million lb (17,745 mt) for the 2026 fishing year, after accounting for discards and incidental mortality. In support of the Council's development of the next framework adjustment, the SSC will reevaluate the best available scientific information and, if warranted by the science at that time, the SSC may recommend modifications to the ABC for the 2026 fishing year.

Table 1 outlines the scallop fishery catch limits. After deducting the incidental target total allowable catch (TAC), the research set-aside (RSA), and the observer set-aside, the remaining ACL available to the fishery is allocated according to the following fleet proportions established in Amendment 11 to the Atlantic Sea Scallop FMP (72 FR 20090, April 14, 2008): 94.5 percent is allocated to the limited access scallop fleet (i.e., the larger “trip boat” fleet); 5 percent is allocated to the limited access general category (LAGC) individual fishing quota (IFQ) fleet (i.e., the smaller “day boat” fleet); and the remaining 0.5 percent is allocated to limited access scallop vessels that also have LAGC IFQ permits. Amendment 15 (76 FR 43746, July 21, 2011) specified that buffers to account for management uncertainty are not necessary in setting the LAGC ACLs (i.e., the LAGC ACL is equal to the LAGC ACT). For the limited access fleet, the management uncertainty buffer is based on the F associated with a 75-percent probability of remaining below the F associated with ABC/ACL, which, using the updated Fs applied to the ABC/ACL, now results in an F of 0.39. Amendment 21 (87 FR 1688, January 12, 2023) modified the ACL flowchart to account for the scallop biomass in the Northern Gulf of Maine (NGOM) as part of the limits in the fishery by adding biomass from the area into calculations of the OFL and ABC. That action moved the accounting of the NGOM ACL from only within the OFL into the OFL and ABC/ACL for the entire fishery. In addition, Amendment 21 created the NGOM Set-Aside to support a directed LAGC fishery (including NGOM and LAGC IFQ permitted vessels) in the NGOM Management Area.

Table 1—Scallop Catch Limits (mt) for Fishing Years 2025 and 2026 for the Limited Access and LAGC IFQ Fleets
Catch limits | 2025 (mt) | 2026 (mt) ¹
OFL | 28,970 | 30,031
ABC/ACL (discards removed) | 17,901 | 17,745
Incidental Landings | 23 | 23
RSA | 578 | 578
Observer Set-Aside | 179 | 177
NGOM Set-Aside | 306 | 230
ACL for fishery | 16,815 | 16,736
Limited Access ACL | 15,890 | 15,816
LAGC Total ACL | 925 | 920
LAGC IFQ ACL (5 percent of ACL) | 841 | 837
Limited Access with LAGC IFQ ACL (0.5 percent of ACL) | 84 | 84
Limited Access ACT | 13,771 | 13,707
APL (after set-asides removed) | 8,180 | (¹)
Limited Access APL (94.5 percent of APL) | 7,730 | (¹)
Total IFQ Annual Allocation (5.5 percent of APL) ² | 450 | 337
LAGC IFQ Annual Allocation (5 percent of APL) ² | 409 | 307
Limited Access with LAGC IFQ Annual Allocation (0.5 percent of APL) ² | 41 | 31
¹ The catch limits for the 2026 fishing year are subject to change through a future specifications action or framework adjustment. This includes the setting of an APL for 2026 that will be based on the 2025 annual scallop surveys.
² As a precautionary measure, the 2026 IFQ and annual allocations are set at 75 percent of the 2025 IFQ Annual Allocations.

Research Set-Aside

This action deducts 1.275 million lb (578 mt) of scallops annually for 2025 and 2026 from the ABC for use as the Scallop RSA to fund scallop research. Vessels participating in Scallop RSA are compensated through the sale of scallops harvested under RSA projects. Of the 1.275 million-lb (578-mt) allocation, NMFS has already allocated 275,181 lb (124.820 mt) to previously funded multi-year projects as part of the 2024 RSA awards process. Of the 1.275 million lb (578-mt) of scallops set aside for 2025 RSA, up to half (625,000 lb, 283.5 mt) can be harvested from the access areas (Areas I and II). No limit is set on the amount that can be harvested from open areas. The cap on access area RSA harvest is intended to spread out compensation fishing between access and open areas to prevent depletion of the access areas while allowing some access to ensure the viability of the RSA program.

This action allows vessels participating in RSA projects to harvest RSA compensation from the open area and the Area I and II Scallop Rotational Areas. All vessels are prohibited from harvesting RSA compensation pounds in all other access areas. Vessels are prohibited from fishing for RSA compensation in the NGOM, unless the vessel is fishing on an RSA compensation trip using NGOM RSA allocation that was awarded to an RSA project. Lastly, Framework 39 prohibits the harvest of RSA from any rotational area under default 2026 measures. At the start of the 2026 fishing year, RSA compensation may only be harvested from open areas. The Council will re-evaluate this default prohibition measure in the action that would set final 2026 specifications.

Observer Set-Aside

This action deducts one percent of the ABC for the industry-funded observer program to help defray the cost to scallop vessels that carry an observer. The observer set-aside is 394,627 lb (179 mt) for 2025 and 390,218 lb (177 mt) for 2026. The Council may adjust the 2026 observer set-aside when it develops specific, non-default measures for 2026.

In fishing year 2025, the observer compensation rates for limited access vessels in open areas fishing under days-at-sea (DAS) is 0.17 DAS per DAS fished. For access area trips, the observer compensation rate is 200 lb (90.7 kg), in addition to the vessel's trip possession limit for each day or part of a day an observer is onboard.

For LAGC IFQ trips less than 24 hours, a vessel will be able to harvest the trip limit and the daily compensation rate on the observed trip, or the vessel could harvest any unfished compensation on a subsequent trip while adhering to the commercial possession limit. LAGC IFQ vessels may possess an additional 200 lb (90.7 kg) per trip on trips less than 24 hours when carrying an observer.

For trips exceeding 24 hours, the daily compensation rate of 200 lb (90.7 kg) will be prorated at 12-hour increments. The amount of compensation a vessel can receive on one trip will be capped at 2 days (48 hours) and vessels fishing longer than 48 hours will not receive additional compensation allocation. For example, if the observer compensation rate is 200 lb/day (90.7 kg/day) and an LAGC IFQ vessel carrying an observer departs on July 1 at 2200 hours and lands on July 3 at 0100 hours, the length of the trip would equal 27 hours, or 1 day and 3 hours. In this example, the LAGC IFQ vessel would be eligible for 1 day plus 12 hours of compensation allocation, i.e., 300 lb (136.1 kg).

For NGOM trips, a vessel will be able to harvest the trip limit and the daily compensation rate on the observed trip. NGOM vessels may possess an additional 125 lb (56.7 kg) per trip when carrying an observer.

Open Area Days-at-Sea (DAS) Allocations

This action implements vessel-specific DAS allocations for each of the three limited access scallop DAS permit categories (i.e., full-time, part-time, and occasional) for 2025 and 2026 (table 2). The 2025 DAS allocations are more than those allocated to the limited access fleet in 2024. Framework 39 sets the 2026 DAS allocations at 75 percent of fishing year 2025 DAS allocations as a precautionary measure. This is to avoid over-allocating DAS to the fleet in the event that the 2026 specifications action is delayed past the start of the 2026 fishing year. The allocations in table 2 exclude any DAS deductions that are required if the limited access scallop fleet exceeds its 2024 sub-ACL.

Table 2—Scallop Open Area DAS Allocations for 2025 and 2026
Permit category | 2025 | 2026 (default)
Full-Time | 24 | 18
Part-Time | 9.6 | 7.2
Occasional | 2.0 | 1.5

Changes to Fishing Year 2025 Sea Scallop Rotational Area Program—Closed Areas

Framework 39 closes the Nantucket Lightship-North and South (table 3) and the Elephant Trunk (table 4). Closure of the Nantucket Lightship area is intended to optimize growth of juvenile scallops observed in the area to support future rotational access. In the mid-Atlantic, closure of the Elephant Trunk is intended to protect a strong recruitment event detected by the 2024 surveys; these scallops are currently too small to harvest, closure of the area is intended to allow them to grow while reducing incidental mortality that would occur if the area were open to fishing.

Table 3—Nantucket Lightship Scallop Rotational Area
Point | Latitude | Longitude
NL1 | 40°20.0′ N | 69°30.0′ W
NL2 | 40°20.0′ N | 68°48.0′ W
NL3 | 40°33.0′ N | 68°48.0′ W
NL4 | 40°33.0′ N | 69°00.0′ W
NL5 | 40°50.0′ N | 68°60.0′ W
NL6 | 40°50.0′ N | 69°30.0′ W
NL1 | 40°20.0′ N | 69°30.0′ W

Table 4—Elephant Trunk Scallop Rotational Area
Point | Latitude | Longitude
ET1 | 38°50.0′ N | 74°20.0′ W
ET2 | 38°50.0′ N | 73°30.0′ W
ET3 | 38°10.0′ N | 73°30.0′ W
ET4 | 38°10.0′ N | 74°20.0′ W
ET1 | 38°50.0′ N | 74°20.0′ W

Changes to Fishing Year 2025 Sea Scallop Rotational Area Program—Open Access Areas

The 2024 scallop surveys show that Area I and Area II access areas hold higher densities of larger scallops and can support rotational fishing in 2025. Framework 39 keeps the Area II Scallop Rotational Area open for fishing year 2025 (table 5). In addition, it opens the Area I Rotational Area (table 6) to scallop fishing as part of the Rotational Access Area Program.

The continued expansion of the Area II boundary to include Closed Area II Extension will allow the fishery to target relatively high densities of exploitable biomass and to spread effort out across a larger area. Most scallops in the Area II access area are exploitable and have supported access area fishing for several years.

For fishing year 2025, Framework 39 combines the areas formally known as Area I, Area I-Sliver, and Area I-Quad to create the Area I Rotational Access Area (table 6).

Table 5—Area II Scallop Rotational Area
Point | Latitude | Longitude | Note
AII1 | 41°30′ N | 67°20′ W |
AII2 | 41°30′ N | ⁽¹⁾ | ⁽²⁾
AII3 | 40°40′ N | ⁽³⁾ | ⁽²⁾
AII4 | 40°40′ N | 67°20′ W |
¹ The intersection of 41°30′ N lat. and the U.S.-Canada Maritime Boundary, approximately 41°30′ N lat., 66°34.73′ W long.
² From Point AII2 connected to Point AII3 along the U.S.-Canada Maritime Boundary.
³ The intersection of 40°40′ N lat. and the U.S.-Canada Maritime Boundary, approximately 40°40′ N lat. and 65°52.61′ W long.

Table 6—Area I Scallop Rotational Area
Point | Latitude | Longitude
AI1 | 40°55.0′ N | 68°53.4′ W
AI2 | 41°30.0′ N | 69°23.0′ W
AI3 | 41°30.0′ N | 68°30.0′ W
AI4 | 40°58.0′ N | 68°30.0′ W
AI1 | 40°55.0′ N | 68°53.4′ W

Access Area Transit

To better enforce the Sea Scallop Rotational Area Management Program, Framework 38 prohibited all vessels fishing under a scallop declaration from entering or transiting any scallop rotational areas unless the vessel is on a declared trip into that area, or otherwise specified. Framework 38 also designated the area known as Area I (including the Area I-Quad) (table 7) as a corridor for continuous transiting. In Framework 39, the Council did not recommend any changes to the current transit regulations, so this action maintains the Area-I transit corridor.

Table 7—Area I Scallop Transit Corridor
Point | Latitude | Longitude
AIA1 | 40°58.2′ N | 68°30′ W
AIA2 | 40°55.8′ N | 68°46.8′ W
AIA3 | 41°3.0′ N | 68°52.2′ W
AIA4 | 41°0.6′ N | 68°58.2′ W
AIA1 | 40°58.2′ N | 68°30′ W

Delayed Access Area Opening

The Area I and Area II Rotational Access Areas will be closed annually from April 1 through May 14. The areas re-open on May 15 each fishing year. This year, the closure will be effective on April 21, 2025. Vessels that have complied with the observer notification requirements, have declared a trip into the Area II Access Area using the correct Vessel Monitoring System (VMS) code, and have crossed the VMS demarcation line before 0001 hrs., April 21, 2025, may complete their trip and retain and land scallops caught from the area. Limited Access vessels have until July 13, 2025, to finish harvesting their previous year's access area allocation in Area II.

This closure will remain in place for the Area I and Area II access areas unless changed in a future action. If parts of these areas become available for open-bottom fishing in future actions (e.g., Area II-Extension), the access area closure would not apply. Limited Access vessels would have 60 days after the re-opening of the access areas on May 15 to finish harvesting their previous year's access area allocation.

Area II Seasonal Bycatch Closure

Area II will be closed annually to directed scallop fishing from November 15 through May 15. This closure is intended to reduce bycatch of windowpane and yellowtail flounder and to optimize scallop yield. The previously implemented seasonal bycatch closure, August 15 through November 15, did not cover the time period when windowpane bycatch is highest. Catch rates of windowpane flounder have been highest from December through April. Displacing scallop fishing effort from those months is intended to reduce non-target species impacts, particularly in April when both fishing effort and windowpane catch rates are both relatively high. Scallop meat yields are also low during the winter and spring months, and displacing fishing effort in Area II from February, March, and April into the late spring and summer is intended to reduce overall scallop fishing mortality. Shifting and extending the timing of the bycatch closure will better align access to the area with times of lower flatfish bycatch, and when scallop yield is highest.

New York Bight Scallop Rotational Area Reverting to Open Area

Framework 39 reverts the New York Bight Scallop Rotational Area to the open area. This area was previously managed as part of the area rotation program; however, there is not enough biomass to support rotational access, nor was there enough recruitment seen in the 2024 annual survey to support keeping this area as part of the program. The area no longer meets the criteria for either closure or controlled access as defined in 50 CFR 648.55(a)(6). This will become part of the open area and can be fished as part of the DAS program or on LAGC IFQ open area trips after the 60-day carryover period, i.e., after May 30, 2025.

Full-Time Limited Access Allocations and Trip Possession Limits for Scallop Access Areas

Table 8 provides the limited access full-time allocations for all of the access areas for the 2025 fishing year and the first 60 days the access areas that are open in the 2026 fishing year. These allocations can be landed in as many trips as needed, so long as vessels do not exceed the possession limit (also in table 7) on any one trip.

Table 8—Scallop Access Area Full-Time Limited Access Vessel Poundage Allocations and Trip Possession Limits for 2025 and 2026
Rotational access area | Scallop per trip possession limit | 2025 Scallop allocation | 2026 Scallop allocation (default)
Area I | 12,000 lb (5,443 kg) per trip | 12,000 lb (5,443 kg) | 0 lb (0 kg).
Area II | 12,000 lb (5,443 kg) per trip | 12,000 lb (5,443 kg) | 0 lb (0 kg).
Total |  | 24,000 lb (10,886 kg) | 0 lb (0 kg).

Full-Time Limited Access Vessels' One-for-One Access Area Allocation Exchanges

Framework 39 allows full-time limited access vessels to exchange access area allocation in 6,000-lb (2,722-kg) increments. The owner of a vessel issued a full-time limited access scallop permit can exchange unharvested scallop pounds allocated into an access area for another full-time limited access vessel's unharvested scallop pounds allocated into another access area. For example, a full-time vessel may exchange 6,000 lb (2,722 kg) from one access area for 6,000 lb (2,722 kg) allocated to another full-time vessel for another access area. Further, a full-time vessel may exchange 12,000 lb (5,443 kg) from one access area for 12,000 lb (5,443 kg) allocated to another full-time vessel for another access area. These exchanges may be made only between vessels with the same permit category; a full-time vessel may not exchange allocations with a part-time vessel, and vice versa. Part-time vessels may not exchange access area allocations.

Part-Time Limited Access Allocations and Trip Possession Limits for Scallop Access Areas

Table 9 provides the limited access part-time allocations for all of the access areas for the 2025 fishing year and the first 60 days the access areas are open in the 2026 fishing year. Vessels can fish the allocation in either of the open access areas (i.e., Area I and Area II). These allocations can be landed in as many trips as needed, so long as a vessel does not exceed the possession limit (also in table 9) or its available allocation on any one trip.

Table 9—Scallop Access Area Part-Time Limited Access Vessel Poundage Allocations and Trip Possession Limits for 2025 and 2026
Rotational access area | Scallop per trip possession limit | 2025 Scallop allocation | 2026 Scallop allocation (default)
Area I or Area II ¹ | 9,600 lb (4,354 kg) | 9,600 lb (4,354 kg) | 0 lb (0 kg).
¹ Allocation can be fished in either Area I and/or Area II Access Areas.

LAGC Measures

1. ACL and IFQ Allocation for LAGC Vessels With IFQ-Only Permits

This action implements a 1.854 million-lb (841-mt) ACL for 2025 and a 1.845 million-lb (837-mt) default ACL for 2026 for LAGC vessels with IFQ permits (see table 1). These sub-ACLs provide a ceiling on overall landings by the LAGC IFQ fleet. If the fleet were to reach this ceiling, any overages would be deducted from the following year's sub-ACL. Framework 28 (82 FR 15155, March 27, 2017) changed the way the LAGC IFQ allocations are set from a direct percentage of the ACL to a percentage of the APL. The purpose of this change was to help ensure that the allocation of potential catch between the fleets is more consistent with the concept of spatial management by allocating catch to the LAGC IFQ fleet based on harvestable scallops instead of total biomass. Since Framework 28 was implemented in 2017, the LAGC IFQ allocation has been equal to 5.5 percent of the projected landings (5 percent for LAGC IFQ vessels and 0.5 percent for LAGC IFQ vessels that also have a limited access scallop permit). The annual allocation to the LAGC IFQ-only fleet for fishing years 2025 and 2026 based on APL is 901,691 lb (409 mt) for 2025 and 676,819 lb (307 mt) for 2026 (see table 1). Each vessel's IFQ is calculated from these allocations based on APL.

2. ACL and IFQ Allocation for Limited Access Scallop Vessels With IFQ Permits

This action implements a 185,188-lb (84-mt) ACL for 2025 and a default 185,188-lb (84-mt) ACL for 2026 for limited access scallop vessels with IFQ permits (see table 1). These sub-ACLs provide a ceiling on overall landings by this fleet. If the fleet were to reach this ceiling, any overages would be deducted from the following year's sub-ACL. The annual allocation to limited access vessels with IFQ permits is 90,390 lb (41 mt) for 2025 and 90,390 lb (41 mt) for 2026 (see table 1). Each vessel's IFQ is calculated from these allocations based on APL.

3. LAGC IFQ Trip Allocations for Scallop Access Areas

Framework 39 allocates LAGC IFQ vessels a fleet-wide number of trips for fishing year 2025 and no default trips for fishing year 2026 (see table 10). The scallop catch associated with the total number of trips for all areas combined (571 trips) for fishing year 2025 is equivalent to 5.5 percent of total projected catch from access areas.

LAGC Access Area trips can be taken in any of the available areas (Area I or Area II). Once the Regional Administrator has determined that the total number of LAGC IFQ access area trips have been or are projected to be taken, all of the access areas will then be closed to LAGC IFQ fishing.

Table 10—Fishing Years 2025 and 2026 LAGC IFQ Trip Allocations for Scallop Access Areas
Scallop access area | 2025 | 2026 ²
Area I/Area II ¹ | 571 | 0
Total | 571 | 0
¹ LAGC Access Area trips can be taken in any of the available areas until the Regional Administrator determines that the total number of LAGC IFQ trips have been or are projected to be taken.
² The LAGC IFQ access area trip allocations for the 2026 fishing year are subject to change through a future specifications action or framework adjustment.

4. NGOM Scallop Fishery Landing Limits

This action sets total allowable landings (TAL) in the NGOM of 712,093 lb (323,000 kg) for fishing year 2025. This action deducts 25,000 lb (11,340 kg) of scallops annually for 2025 and 2026 from the NGOM TAL to increase the overall Scallop RSA to fund scallop research. In addition, this action deducts one percent of the NGOM ABC from the NGOM TAL for fishing years 2025 and 2026 to support the industry-funded observer program to help defray the cost to scallop vessels that carry an observer (table 11), resulting in a NGOM set-aside of 675,563 lb (306,430 mt).

Amendment 21 developed landing limits for all permit categories in the NGOM and established an 800,000-lb (362,874-kg) NGOM Set-Aside trigger for the NGOM directed fishery, with a sharing agreement for access by all permit categories for allocation above the trigger. Allocation above the trigger (i.e., the NGOM APL) will be split 5 percent for the NGOM fleet and 95 percent for limited access and LAGC IFQ fleets. Framework 39 sets a NGOM Set-Aside of 675,563 lb (306,430 kg) for fishing year 2025 and a default NGOM Set-Aside of 506,672 lb (229.823 kg) for fishing year 2026. Because the NGOM Set-Aside for fishing years 2025 and 2026 is below the 800,000-lb (362,874-kg) trigger, Framework 39 does not allocate any landings to the NGOM APL. Table 11 describes the breakdown of the NGOM TAL for the 2025 and 2026 (default) fishing years.

Table 11—NGOM Scallop Fishery Landing Limits for Fishing Year 2025 and 2026
Landings limits | 2025 | 2026 ¹
NGOM TAL | 712,093 lb (323,000 kg) | 534,070 lb (242,250 kg).
1 percent NGOM ABC for Observers | 11,530 lb (5,230 kg) | 11,530 lb (5,230 kg).
RSA Contribution | 25,000 lb (11,340 kg) | 25,000 lb (11,340 kg).
NGOM Set-Aside | 675,563 lb (306,430 kg) | 506,672 lb (229.823 kg).
NGOM APL | (²) | (²).
¹ The catch limits for the 2026 fishing year are subject to change through a future specifications action or framework adjustment. This includes the setting of an APL for 2026 that will be based on the 2025 annual scallop surveys.
² NGOM APL is set when the NGOM Set-Aside is above 800,000 lb (362,874 kg).

This action reopens the NGOM, effective on 0001 hours on April 21, 2025. The NGOM was closed on April 11, 2025, when the default NGOM set-aide was projected to be harvested. The NGOM set-aside approved and implemented in this action is higher than the default 2025 NGOM set-aside. Therefore, this action reopens the NGOM to allow for the harvest of the remaining 2025 NGOM set-aside. The NGOM will be closed when we project that the 2025 NGOM set-aside of 675,563 lb (306,430 kg) has been harvested.

5. Northern Gulf of Maine Permitted Vessel Transit

This action relieves a restriction to allow vessels issued an LAGC Category B permit to possess scallops and transit, with gear stowed, outside of the NGOM scallop management area. Vessels issued a NGOM scallop permit continue to be prohibited from declaring into or fishing for scallops outside of the NGOM scallop management area. Vessels issued an LAGC Category B permit fishing in the NGOM continue to be limited to no more than 1,666 lb (756 kg) of in-shell scallops shoreward of the Vessel Monitoring System (VMS) demarcation line.

6. Scallop Incidental Landings Target TAL

This action sets a 50,000-lb (22,680-kg) scallop incidental landings target TAL for each respective fishing year, 2025 and 2026, to account for mortality from vessels that catch scallops while fishing for other species and ensure that F targets are not exceeded. NMFS may adjust this target TAC in a future action if vessels catch more scallops under the incidental target TAC than predicted.

Regulatory Corrections Under Regional Administrator Authority

This rule includes one revision to add regulatory text to clarify the conditions related to research set-aside harvest. Regulatory text has been added at § 648.56(i) to clarify that fishing vessels harvesting research set-aside pounds are not allowed to also harvest commercial pounds on the same trip.

These revisions are consistent with section 305(d) of the Magnuson-Stevens Act, which provides authority to the Secretary of Commerce to promulgate regulations necessary to ensure that amendments to the Atlantic Sea Scallop FMP are carried out in accordance with the Atlantic Sea Scallop FMP and the Magnuson-Stevens Act.

Comments and Responses

We received nine comments on the proposed rule during the public comment period. Three comments, and parts of other comments, were not relevant to the proposed rule. We respond to relevant comments below, organized by topic. We are not responding to the comments that cited general concerns and recommendations about offshore wind, right whales, or scallop management and commercial fishing outside the scope of this rulemaking.

Comments on Area I access area: We received three comments on the Area I access area. One comment cited concerns about opening Area I in 2025, specifically that they observed many small 40- to 50-count scallops in the area. One commenter was concerned that the delayed opening in Area I was not enough to ensure that Area I would remain a viable access area after 2025. Another commenter stated that Area I does appear to have the capacity to support the allocated 2025 trips.

Response: Area I is being opened as an access area in 2025, and the best available information demonstrates that there is enough biomass to support the allocated trips. The 2024 scallop surveys indicate that there are high densities of large scallops in the area that will support rotational fishing in 2025. The northern portion of Area I (Area I—Sliver) has been closed since the 2021 fishing year and is where the vast majority of exploitable biomass is located. The 2024 surveys also observed high densities of small, 2-year-old scallops. While Area I does have a mix of large and small scallops, most areas open to the fishery have a range of scallop sizes, which is why other management strategies to reduce the retention of small scallops are in place (e.g., minimum ring size in dredges). Concerns about the presence of small scallops, and the need for Area I to sustain access area trips in years beyond 2025, were raised and considered during the development of Framework 39. The Council considered higher and lower access area allocations in Area I; the Area I allocation was recommended as a balance between optimizing scallop harvest in 2025, and ensuring the continued viability of Area I as an access area.

Comments on Area II access area: Three commenters cited concerns about the Area II access area. These commenters were concerned that there would not be sufficient biomass to support all of the allocated 2025 trips; two of the commenters specifically cited low catch rates during recent trips.

Response: During the development of Framework 39 similar concerns were raised about the viability of Area II as an access area in 2025. Considering the public feedback, results of the 2024 surveys, and Scallop Area Management Simulator (SAMS) model projections, the Council recommended one 12,000-lb (5,443-kg) trip in Area II for the 2025 fishing year. Based on the best available scientific information, the 2024 surveys and SAMS model, Area II can support the allocated access area trips in 2025.

While there is uncertainty about the future catch rates, winter months are when scallop meat yield is lowest, and we typically observe declines in catch rates (lower landings per unit effort, (LPUE)). The seasonal variability in LPUE was the primary reason this action delays the opening of Areas I and II to May 15, to shift fishing effort to better align with times when meat yield is best and LPUE is highest.

Comments on Implementing Framework 39: Two comments were in favor of implementing Framework 39.

Response: We are implementing Framework 39 as proposed.

Comment on Days-at-sea: One commenter stated that DAS should be reduced to ensure future health of the scallop population.

Response: The Council considered a range of DAS from 15 to 26 for the 2025-fishing year. This action allocates 24 DAS to full-time limited access vessels. While this is an increase over the 2024 allocations (20 DAS for full time vessels), the 2025 specifications are estimated to result in a F in the open bottom DAS fishery. The SAMS model estimated that under a constant open area F rate from the preferred option in Framework 38, the number of DAS would have been increased from 20 in 2024 to 33.4 in 2025. Open area F rates are expected to decrease from the preferred option in Framework 38. A reduction in F, and continued fishing at rates below the F at maximum sustainable yield are consistent with ensuring the future health of the scallop population and fishery.

Comment on RSA compensation fishing: One comment stated that RSA compensation fishing should never be allowed in rotational access areas.

Response: Each year, through the specification process, we determine where RSA compensation fishing can occur. This year the Council recommended, and we are approving, a cap on the amount of RSA compensation fishing that can occur within the access areas. This cap is intended to reduce the amount of RSA compensation fishing in the access areas while balancing the viability of the scallop RSA program. The scallop RSA supports critical research that supports scallop science and management.

Classification

Pursuant to section 304(b)(1)(A) of the Magnuson-Stevens Act, the NMFS Assistant Administrator has determined that this final rule is consistent with the Atlantic Sea Scallop FMP, other provisions of the Magnuson-Stevens Act and other applicable law. Pursuant to section 305(d) of the Magnuson-Stevens Act, the NMFS Assistant Administrator has determined that this final rule is necessary to discharge NMFS' responsibilities and to carry out the Magnuson-Stevens Act.

The Office of Management and Budget has determined that this rule is not significant pursuant to Executive Order (E.O.) 12866 and is not a regulatory action under E.O. 14192.

This final rule does not contain policies with federalism or “takings” implications, as those terms are defined in E.O. 13132 and E.O. 12630, respectively.

This action does not contain any collection-of-information requirements subject to the Paperwork Reduction Act.

The Assistant Administrator for Fisheries has determined that expedited implementation of this rule will benefit the public, and is necessary to achieve management objectives for the scallop fishery, windowpane and yellowtail flounder stocks, and to prevent harms to scallop fishery participants. As explained in more detail below, this constitutes good cause, under 5 U.S.C. 553(d)(3), to waive the 30-day delay in the rule's effective date and to make the final Framework 39 measures effective upon publication in the Federal Register. The 2025 scallop fishing year began on April 1, 2025. The Council took final action on Framework 39 to the Atlantic Sea Scallop FMP at its December 2024 meeting. As stated in the background section of this rule, the Council could not have taken action earlier, as the scientific data and analysis needed to support the action was not available for earlier action. Likewise, NMFS has taken all diligent steps to promulgate this rule as quickly as possible, but could not have published the rule sooner because the data necessary to develop the framework was not available earlier.

If this action is not implemented as soon as possible, it will delay positive economic benefits to the scallop fleet. Delayed implementation will negatively impact the access area rotation program by delaying fishing in areas that should be available, adversely affect scallop stocks by delaying harvest until times when scallop meats are smaller, resulting in increased mortality, and by creating confusion in the Atlantic sea scallop industry because of the differences in the default and Framework 39 measures.

Framework 39 will increase allocations throughout the fleet. Currently Framework 38 default measures are in effect. The default measures, including access area designations, DAS, IFQ, RSA, and observer set-aside allocations, automatically went into effect on April 1, 2025. Most of these default measures are set at lower harvest levels than what will be implemented under Framework 39. These default allocations were intentionally set at levels low enough to avoid exceeding the final Framework 39 allocations. Under the existing default measures, each full-time vessel has 15 DAS and no access area trips. The specification measures in Framework 39 will provide full-time vessels with an additional 9 DAS (24 DAS total) and 24,000 lb (5,443 kg) in access area allocations. In addition, the NGOM set-aside under the default measures is only 47 percent of the Framework 39 NGOM set-aside and further delay in implementing the full set-aside for this area would have negative economic impacts on the scallop fishery. Framework 39 will also open the Closed Area I and II Access Areas allowing the fleet to sustainably fish in the area. Expedited implementation of Framework 39 will, accordingly, benefit the public most directly affected by its measures.

For these reasons, NMFS has determined that there is good cause for the measures in this final rule to become effective immediately upon publication in the Federal Register.

NMFS has determined that this action would not have a substantial direct effect on one or more Indian Tribes, on the relationship between the Federal Government and Indian Tribes, or on the distribution of power and responsibilities between the Federal Government and Indian Tribes; therefore, consultation with Tribal officials under E.O. 13175 is not required, and the requirements of sections (5)(b) and (5)(c) of E.O. 13175 also do not apply. A Tribal summary impact statement under section (5)(b)(2)(B) and section (5)(c)(2)(B) of E.O. 13175 is not required and has not been prepared.

Pursuant to section 604 of the Regulatory Flexibility Act (RFA), NMFS has completed a final regulatory flexibility analysis (FRFA) in support of Framework 39, as included below. This FRFA incorporates the Initial Regulatory Flexibility Analysis (IRFA), a summary of the significant issues raised by public comments in response to the IRFA, NMFS' responses to those comments, a summary of the analyses completed in the Framework 39 EA, and the preamble to this final rule. A summary of the IRFA was published in the proposed rule for this action and is not repeated here. A description of why this action was considered, the objectives of, and the legal basis for this rule is contained in Framework 39 and in the preambles to the proposed rule and this final rule and are not repeated here. All of the documents that constitute the FRFA (including the preambles of the proposed and final rules) are available from NMFS and/or the Council, and a copy of the IRFA, the Regulatory Impact Review (RIR), and the EA are available upon request (see ADDRESSES section).

A Summary of the Significant Issues Raised by the Public in Response to the IRFA, a Summary of the Agency's Assessment of Such Issues, and a Statement of Any Changes Made in the Final Rule as a Result of Such Comments

We received no comments specific to the IRFA or on the economic impacts of the rule more generally. See above for responses to comments on the proposed rule.

Description and Estimate of Number of Small Entities to Which the Rule Would Apply

The proposed regulations would affect all vessels with limited access, LAGC IFQ, and LAGC NGOM scallop permits. Framework 39 (section 5.6) and the LAGC IFQ Performance Evaluation (2017) provide extensive information on the number of vessels that would be affected by the proposed regulations, their home and principal state, dependency on the scallop fishery, and revenues and profits (see ADDRESSES). There were 315 vessels that held full-time limited access permits in fishing year 2023, including 250 dredge, 54 small-dredge, and 11 scallop trawl permits. In the same year, there were also 29 part-time limited access permits in the sea scallop fishery. No vessels were issued occasional scallop permits in 2023. Approximately 99 of the IFQ vessels and 89 NGOM vessels actively fished for scallops in fishing year 2023. The remaining IFQ permits likely leased out scallop IFQ allocations with their permits in Confirmation of Permit History. The limited access fleet also held LAGC permits, i.e., 39 of limited access vessels also had IFQ permits; 66 had NGOM permits, and 76 had incidental permits.

For RFA purposes, NMFS defines a small business in a shellfish fishery as a firm that is independently owned and operated with receipts of less than $11 million annually (see 50 CFR 200.2). Individually permitted vessels may hold permits for several different fisheries, harvesting species of fish that are regulated by several different fishery management plans, in addition to those impacted by the proposed action. Furthermore, multiple permitted vessels and/or permits may be owned by entities affiliated through stock ownership, common management, identity of interest, contractual relationships, or economic dependency. For the purposes of this analysis, “ownership entities” are defined as those entities with common ownership as listed on the permit application. Only permits with identical ownership are categorized as an “ownership entity.” For example, if five permits have the same seven persons listed as co-owners on their permit applications, those seven persons would form one “ownership entity” that holds those five permits. If two of those seven owners also co-own additional vessels, that ownership arrangement would be considered a separate “ownership entity” for the purpose of this analysis.

On June 1 of each year, ownership entities are identified based on a list of all permits for the most recent complete calendar year. The current ownership dataset is based on the calendar year 2023 permits and contains average gross sales associated with those permits for calendar years 2019 through 2023. Matching the potentially impacted 2023 fishing year permits described above (i.e., limited access and LAGC IFQ) to calendar year 2023 ownership data results in 153 distinct ownership entities for the limited access fleet and 76 distinct ownership entities for the LAGC IFQ fleet. Based on the Small Business Administration (SBA) guidelines, 146 of the limited access distinct ownership entities and 76 LAGC IFQ entities are categorized as small. Seven limited access and none of LAGC IFQ entities are categorized as large business entities with annual fishing revenues over $11 million in the calendar year 2023. There were 85 distinct small business entities with NGOM permits in 2023.

Description of Projected Reporting, Recordkeeping, and Other Compliance Requirements of the Final Rule

This action contains no new collection-of-information, reporting, or recordkeeping requirements. This final rule does not require specific action on behalf of regulated entities other than to ensure they stay within the established specifications.

Description of the Steps the Agency Has Taken To Minimize the Significant Economic Impact on Small Entities Consistent With the Stated Objectives of Applicable Statutes

During the development of Framework 39, NMFS and the Council considered ways to reduce the regulatory burden on, and provide flexibility for, the regulated entities in this action. Framework 39 allows the LAGC IFQ fleet to fish 2025 access area trips in either Area I or Area II. Further, Framework 39 allows part-time vessels to fish access area trips in either Area I or Area II. This could have potentially slight positive impacts on the resource overall by spreading out effort and providing more access in areas with higher catch rates. It also could potentially reduce total area swept because the LAGC IFQ and part-time vessels will have the opportunity to fish on high densities of scallops in all open access areas. Alternatives to the measures in this final rule are described in detail in Framework 39, which includes an EA, RIR, and IRFA (see ADDRESSES section). The measures implemented by this final rule minimize the long-term economic impacts on small entities to the extent practicable. The only alternatives for the prescribed catch limits that were analyzed were those that met the legal requirements to implement effective conservation measures. Specifically, catch limits must be derived using SSC-approved scientific calculations based on the Atlantic Sea Scallop FMP. Moreover, the limited number of alternatives available for this action must also be evaluated in the context of an ever-changing FMP, as the Council has considered numerous alternatives to mitigating measures every fishing year in amendments and frameworks since the establishment of the Atlantic Sea Scallop FMP in 1982.

Overall, this rule minimizes adverse long-term impacts by ensuring that management measures and catch limits result in sustainable fishing mortality rates that promote stock rebuilding, and as a result, maximize optimal yield. The measures implemented by this final rule also provide additional flexibility for fishing operations in the short-term.

Small Entity Compliance Guide

Section 212 of the Small Business Regulatory Enforcement Fairness Act of 1996 states that, for each rule or group of related rules for which an agency is required to prepare a FRFA, the agency will publish one or more guides to assist small entities in complying with the rule and will designate such publications as “small entity compliance guides.” The agency will explain the actions a small entity is required to take to comply with a rule or group of rules. As part of this rulemaking process, a bulletin to permit holders that also serves as a small entity compliance guide was prepared. This final rule and the guide (i.e., bulletin) will be sent via email to the Greater Atlantic Regional Fisheries Office scallop email list and are available on the website at: https://www.fisheries.noaa.gov/action/framework-adjustment-39-atlantic-sea-scallop-fishery-management-plan. Hard copies of the guide and this final rule will be available upon request (see ADDRESSES section).

List of Subjects in 50 CFR Part 648

Fisheries, Fishing, Recordkeeping and reporting requirements.

Dated: April 16, 2025.
Samuel D. Rauch III,
Deputy Assistant Administrator for Regulatory Programs, National Marine Fisheries Service.

For the reasons set out in the preamble, NMFS amends 50 CFR part 648 as follows:

PART 648—FISHERIES OF THE NORTHEASTERN UNITED STATES

1. The authority citation for part 648 continues to read as follows:

Authority: 16 U.S.C. 1801 et seq.

Subpart D—Management Measures for the Atlantic Sea Scallop Fishery

2. Amend § 648.53 by revising paragraphs (a)(9) and (b)(3) to read as follows:

§ 648.53 Overfishing limit (OFL), acceptable biological catch (ABC), annual catch limits (ACL), annual catch targets (ACT), annual projected landings (APL), DAS allocations, and individual fishing quotas (IFQ).

(a) * * *

(9) Scallop fishery catch limits. The following catch limits will be effective for the 2025 and 2026 fishing years:

Table 1 to Paragraph (a)(9)—Scallop Fishery Catch Limits
Catch limits | 2025 (mt) | 2026 (mt) ¹
OFL | 28,970 | 30,031
ABC/ACL (discards removed) | 17,901 | 17,745
Incidental Landings | 23 | 23
RSA | 578 | 578
Observer Set-Aside | 179 | 177
NGOM Set-Aside | 306 | 230
ACL for fishery | 16,815 | 16,736
Limited Access ACL | 15,890 | 15,816
LAGC Total ACL | 925 | 920
LAGC IFQ ACL (5 percent of ACL) | 841 | 837
Limited Access with LAGC IFQ ACL (0.5 percent of ACL) | 84 | 84
Limited Access ACT | 13,771 | 13,707
APL (after set-asides removed) | 8,180 | (¹)
Limited Access APL (94.5 percent of APL) | 7,730 | (¹)
Total IFQ Annual Allocation (5.5 percent of APL) ² | 450 | 337
LAGC IFQ Annual Allocation (5 percent of APL) ² | 409 | 307
Limited Access with LAGC IFQ Annual Allocation (0.5 percent of APL) ² | 41 | 31
¹ The catch limits for the 2026 fishing year are subject to change through a future specifications action or framework adjustment. This includes the setting of an APL for 2026 that will be based on the 2025 annual scallop surveys. The 2026 default allocations for the limited access component are defined for DAS in paragraph (b)(3) of this section and for access areas in § 648.59(b)(3)(i)(B).
² As specified in paragraph (a)(6)(iii)(B) of this section, the 2026 IFQ annual allocations are set at 75 percent of the 2025 IFQ Annual Allocations.

(b) * * *

(3) DAS allocations. The DAS allocations for limited access scallop vessels for fishing years 2025 and 2026 are as follows:

Table 2 to Paragraph (b)(3)—Scallop Open Area DAS Allocations
Permit category | 2025 | 2026 ¹
Full-Time | 24 | 18
Part-Time | 9.6 | 7.2
Occasional | 2.0 | 1.5
¹ The DAS allocations for the 2026 fishing year are subject to change through a future specifications action or framework adjustment. The 2026 DAS allocations are set at 75 percent of the 2025 allocation as a precautionary measure.

* * * * *

3. Amend § 648.56 by adding paragraph (i) to read as follows:

§ 648.56 Scallop research.

* * * * *

(i) Vessels on compensation fishing trips, harvesting scallops for RSA compensation, may not fish for, or land scallops except for RSA compensation. Vessels on compensation fishing trips may not fish for, or land scallops on DAS, access area allocation, or IFQ allocation.

4. Amend § 648.59 by revising paragraphs (a)(2)(i)(A), (b)(3)(i)(B), (c), (e), (g)(1), and (g)(3)(v) to read as follows:

§ 648.59 Sea Scallop Rotational Area Management Program and Access Area Program requirements.

(a) * * *

(2) * * *

(i) * * *

(A) Area 1 Scallop Transit Area.

Table 1 to Paragraph (a)(2)(i)(A)
Point | Latitude | Longitude
AIT1 | 40°58.2′ N | 68°30′ W
AIT2 | 40°55.8′ N | 68°46.8′ W
AIT3 | 41°3.0′ N | 68°52.2′ W
AIT4 | 41°0.6′ N | 68°58.2′ W
AIT1 | 40°58.2′ N | 68°30′ W

* * * * *

(b) * * *

(3) * * *

(i) * * *

(B) The following access area allocations and possession limits for limited access vessels shall be effective for the 2025 and 2026 fishing years:

(1) Full-time vessels. (i) For a full-time limited access vessel, the possession limit and allocations are:

Table 2 to Paragraph (b)(3)(i)(B)(1)(i)
Rotational access area | Scallop possession limit | 2025 Scallop allocation | 2026 Scallop allocation (default) ¹
Area I | 12,000 lb (5,443 kg) per trip | 12,000 lb (5,443 kg) | 0 lb (0 kg).
Area II | 12,000 lb (5,443 kg) per trip | 12,000 lb (5,443 kg) | 0 lb (0 kg).
Total |  | 24,000 lb (10,886 kg) | 0 lb (0 kg).
¹ The access area allocations for the 2026 fishing year are subject to change through a future specifications action or framework adjustment.

(ii) [Reserved]

(2) Part-time vessels. (i) For a part-time limited access vessel, the possession limit and allocations are as follows:

Table 3 to Paragraph (b)(3)(i)(B)(2)(i)
Rotational access area | Scallop possession limit | 2025 Scallop allocation | 2026 Scallop allocation (default)
Area I or Area II ¹ | 9,600 lb (4,354 kg) per trip | 9,600 lb (4,354 kg) | 0 lb (0 kg).
Total |  | 9,600 lb (4,354 kg) | 0 lb (0 kg).
¹ Allocation can be fished in either Area I and/or Area II Access Areas.

(ii) [Reserved]

(3) Occasional limited access vessels. (i) For the 2025 fishing year only, an occasional limited access vessel is allocated 2,000 lb (907 kg) of scallops with a trip possession limit at 2,000 lb of scallops per trip (907 kg per trip). Occasional limited access vessels may harvest the 2,000 lb (907 kg) allocation from Area I or Area II Access Areas.

(ii) For the 2026 fishing year, occasional limited access vessels are not allocated scallops in any rotational access area.

* * * * *

(c) Scallop Access Area scallop allocation carryover. With the exception of vessels that held a Confirmation of Permit History as described in § 648.4(a)(2)(i)(J) for the entire fishing year preceding the carry-over year, a limited access scallop vessel may fish any unharvested Scallop Access Area allocation from a given fishing year within the first 60 days the access area is open in the subsequent fishing year, unless otherwise specified in this section. However, the vessel may not exceed the Scallop Rotational Area trip possession limit. For example, if a full-time vessel has 7,000 lb (3,175 kg) remaining in the Area II Access Area at the end of fishing year 2024, that vessel may harvest those 7,000 lb (3,175 kg) during the first 60 days that the Area II Access Area is open in fishing year 2025 (May 15, 2025, through July 13, 2025).

* * * * *

(e) Sea Scallop Research Set-Aside Harvest in Scallop Access Areas. Unless otherwise specified, RSA may be harvested in any access area that is open in a given fishing year, as specified through a specifications action or framework adjustment and pursuant to § 648.56. The amount of scallops that can be harvested in each access area by vessels participating in approved RSA projects shall be determined through the RSA application review and approval process. The access areas open for RSA harvest for fishing years 2025 and 2026 are:

(1) 2025. Area I and II Scallop Rotational Access Areas.

(2) 2026. No access areas.

* * * * *

(g) * * *

(1) An LAGC scallop vessel may only fish in the scallop rotational areas specified in § 648.60 or in paragraph (g)(3)(iv) of this section, subject to any additional restrictions specified in § 648.60, subject to the possession limit and access area schedule specified in the specifications or framework adjustment processes defined in § 648.55, provided the vessel complies with the requirements specified in paragraphs (b)(1), (2), and (6) through (9) and (d) through (g) of this section. A vessel issued both a NE multispecies permit and an LAGC scallop permit may fish in an approved SAP under § 648.85 and under multispecies DAS in the Area II and Area I, Scallop Rotational Areas specified in § 648.60, when open, provided the vessel complies with the requirements specified in this section and this paragraph (g), but may not fish for, possess, or land scallops on such trips.

* * * * *

(3) * * *

(v) LAGC IFQ access area allocations. The following LAGC IFQ access area trip allocations will be effective for the 2025 and 2026 fishing years:

Table 4 to Paragraph (g)(3)(v)
Scallop access area | 2025 | 2026 ¹
Area I/Area II ² | 571 | 0
Total | 571 | 0
¹ The LAGC IFQ access area trip allocations for the 2026 fishing year are subject to change through a future specifications action or framework adjustment.
² LAGC Access Area trips can be taken in any of the available areas until the Regional Administrator determines that the total number of LAGC IFQ trips have been or are projected to be taken.

* * * * *

5. Amend § 648.60 by:

a. Revising paragraphs (a) and (b)(2);

b. Removing and reserving paragraphs (c) and (d);

d. Revising paragraph (g);

e. Adding paragraph (h); and

f. Removing and reserving paragraph (j).

The revisions and additions read as follows:

§ 648.60 Sea Scallop Rotational Areas.

(a) Area I-Rotational Area—(1) Area I-Rotational Area definition. The Area I Rotational Area is defined by straight lines connecting the following points in the order stated (copies of a chart depicting this area are available from the Regional Administrator upon request):

Table 1 to Paragraph (a)(1)
Point | Latitude | Longitude
AI1 | 40°55.0′ N | 68°53.4′ W
AI2 | 41°30.0′ N | 69°23.0′ W
AI3 | 41°30.0′ N | 68°30.0′ W
AI4 | 40°58.0′ N | 68°30.0′ W
AI1 | 40°55.0′ N | 68°53.4′ W

(2) Season. A vessel issued a scallop permit may not fish for, possess, or land scallops in or from the area known as the Area I Scallop Rotational Access Area, defined in paragraph (a)(1) of this section, during the period from April 1 to May 15 of each year the Area I Access Area is open to scallop vessels, unless transiting pursuant to § 648.59(a).

(b) * * *

(2) Season. (i) A vessel issued a scallop permit may not fish for, possess, or land scallops in or from the area known as the Area II Scallop Rotational Access Area, defined in paragraph (b)(1) of this section, during the period of November 15 to May 15 of each year the Area II Access Area is open to scallop vessels, unless transiting pursuant to § 648.59(a).

(ii) [Reserved]

* * * * *

(g) Nantucket Lightship Scallop Rotational Area—(1) Nantucket Lightship Scallop Rotational Area definition. The Nantucket Lightship Scallop Rotational Area is defined by straight lines connecting the following points in the order stated (copies of a chart depicting this area are available from the Regional Administrator upon request):

Table 3 to Paragraph (g)(1)
Point | Latitude | Longitude
NL1 | 40°20.0′ N | 69°30.0′ W
NL2 | 40°20.0′ N | 68°48.0′ W
NL3 | 40°33.0′ N | 68°48.0′ W
NL4 | 40°33.0′ N | 69°00.0′ W
NL5 | 40°50.0′ N | 68°60.0′ W
NL6 | 40°50.0′ N | 69°30.0′ W
NL1 | 40°20.0′ N | 69°30.0′ W

(2) [Reserved]

(h) Elephant Trunk Scallop Rotational Area—(1) Elephant Trunk Scallop Rotational Area definition. The Elephant Trunk Scallop Rotational Area is defined by straight lines connecting the following points in the order stated (copies of a chart depicting this area are available from the Regional Administrator upon request):

Table 4 to Paragraph (h)(1)
Point | Latitude | Longitude
ET1 | 38°50.0′ N | 74°20.0′ W
ET2 | 38°50.0′ N | 73°30.0′ W
ET3 | 38°10.0′ N | 73°30.0′ W
ET4 | 38°10.0′ N | 74°20.0′ W
ET1 | 38°50.0′ N | 74°20.0′ W

(2) [Reserved]

* * * * *

6. Amend § 648.62 by revising paragraph (a)(1), adding paragraph (a)(4), and revising paragraph (b)(1) to read as follows:

§ 648.62 Northern Gulf of Maine (NGOM) Management Program.

(a) * * *

(1) A vessel fishing under a NGOM scallop permit may only fish for scallops in the NGOM scallop management area.

* * * * *

(4) A vessel issued a NGOM scallop permit may possess scallops outside the NGOM management unit if all fishing gear is stowed and not available for immediate use as defined in § 648.2.

* * * * *

(b) * * *

(1) The following landings limits will be effective for the NGOM for the 2025 and 2026 fishing years.

Table 1 to Paragraph (b)(1)
Landings limits | 2025 (lb) | 2026 ¹ (lb)
NGOM TAL | 712,093 | 534,070 lb.²
1 percent NGOM ABC for Observers | 11,530 | 11,530 lb.²
RSA Contribution | 25,000 | 25,000.
NGOM Set-Aside | 675,563 | 506,672.
NGOM APL | (³) | (³).
¹ The landings limits for the 2026 fishing year are subject to change through a future specifications action or framework adjustment.
² The catch limits for the 2026 fishing year are subject to change through a future specifications action or framework adjustment. This includes the setting of an APL for 2026 that will be based on the 2024 annual scallop surveys.
³ NGOM APL is set when the NGOM Set-Aside is above 800,000 lb (362,874 kg).

* * * * *

[FR Doc. 2025-06826 Filed 4-18-25; 8:45 am]

BILLING CODE 3510-22-P